DEPARTMENT OF COMMERCE

International Trade Administration

[A-570-176]

Low Speed Personal Transportation Vehicles From the People's Republic of China: Postponement of Preliminary Determination in the Less-Than-Fair-Value Investigation

AGENCY: Enforcement and Compliance, International Trade Administration, Department of Commerce.

DATES: Applicable November 13, 2024.

FOR FURTHER INFORMATION CONTACT: Jerry Xiao at (202) 202-482-2273 and Gorden Struck at (202) 202-482-8151, AD/CVD Operations, Office II, Enforcement and Compliance, International Trade Administration, U.S. Department of Commerce, 1401 Constitution Avenue NW, Washington, DC 20230.

SUPPLEMENTARY INFORMATION:

Background

On July 10, 2024, the U.S. Department of Commerce (Commerce) initiated a less-than-fair-value (LTFV) investigation of imports of low speed personal transportation vehicles (LSTPVs) from the People's Republic of China (China).¹ Currently, the preliminary determination is due no later than December 4, 2024.

¹ See Certain Low Speed Personal Transportation Vehicles from the People's Republic of China: Initiation of Less-Than-Fair-Value Investigation, 89 FR 57865 (July 10, 2024) (Initiation Notice).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the American Personal Transportation Vehicle Manufacturers Coalition.

On November 5, 2024, the petitioner submitted a timely request that Commerce postpone the preliminary determination in the LTFV investigation.³ The petitioner requested postponement of the preliminary determination because it believes that additional time is necessary to ensure that Commerce, the petitioner, and any other interested parties are able to sufficiently review all questionnaire responses and request clarification and additional information as necessary.” ⁴

³ See Petitioner's Letter, “Request for Postponement of the Preliminary Determination,” dated November 5, 2024.

⁴ Id. at 2.

For the reasons stated above and because there are no compelling reasons to deny the request, Commerce, in accordance with section 733(c)(1)(A) of the Act, is postponing the deadline for the preliminary determinations by 50 days (i.e., 190 days after the date on which this investigation was initiated). As a result, Commerce will issue its preliminary determination no later than January 23, 2025. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: November 6, 2024.
Abdelali Elouaradia,
Deputy Assistant Secretary for Enforcement and Compliance.

[FR Doc. 2024-26222 Filed 11-12-24; 8:45 am]

BILLING CODE 3510-DS-P